DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 8, 2003.

Interested persons are invited to submit written comments regarding the subject matter of the investigations to the Director, Division of Trade Adjustment Assistance, at the address shown below, not later than December 8, 2003.

The petitions filed in this case are available for inspection at the Office of the Director, Division of Trade Adjustment Assistance, Employment and Training Administration, U.S. Department of Labor, Room C-5311, 200 Constitution Avenue, NW., Washington, DC 20210.

Signed at Washington, DC, this 17th day of November 2003.
Timothy Sullivan,
Director, Division of Trade Adjustment Assistance.

Appendix
[Petitions instituted between 11/03/2003 and 11/07/2003]
TA-W | Subject firm (petitioners) | Location | Date of institution | Date of petition
53,405 | Authentic Fitness Corp. (Wkrs) | Los Angeles, CA | 11/03/2003 | 10/16/2003
53,406 | F/V Patricia Diann (Comp) | Cordova, AK | 11/03/2003 | 10/13/2003
53,407 | Alice Manufacturing (Wkrs) | Easley, SC | 11/03/2003 | 10/28/2003
53,408 | Elastic Corp. of America (Comp) | Woolwine, VA | 11/03/2003 | 10/21/2003
53,409 | Delta International Machinery (Comp) | Tupelo, MS | 11/03/2003 | 10/11/2003
53,410 | Nidec America Corporation (MA) | Canton, MA | 11/03/2003 | 10/28/2003
53,411 | Cognati Industries (GMP) | Bluffton, IN | 11/03/2003 | 10/08/2003
53,412 | Fort Payne Socks, Inc. (Comp) | Fort Payne, AL | 11/03/2003 | 10/29/2003
53,413 | MTD Southwest, Inc. (Comp) | Chandler, AZ | 11/03/2003 | 10/31/2003
53,414 | DuPont Photomasks, Inc. (Wkrs) | Danbury, CT | 11/03/2003 | 10/31/2003
53,415 | Elementis Chromium LP (Wkrs) | Corpus Christi, TX | 11/03/2003 | 05/02/2003
53,416 | Wolverine Pattern and Machine (IAM) | Saginaw, MI | 11/03/2003 | 10/31/2003
53,417 | National Pattern, Inc. (IAM) | Saginaw, MI | 11/03/2003 | 10/31/2003
53,418 | Springfield LLC (Comp) | Gaffney, SC | 11/03/2003 | 10/27/2003
53,419 | Encee Inc. (Wkrs) | Eden, NC | 11/03/2003 | 10/24/2003
53,420 | Surgical Specialties Corp. (Wkrs) | Ada, OK | 11/04/2003 | 11/04/2003
53,421 | Seamless Textiles (PR) | Humacao, PR | 11/04/2003 | 10/10/2003
53,422 | United Airlines (Wkrs) | Elk Grove, IL | 11/04/2003 | 11/03/2003
53,423 | Drexel Heritage Furniture Industries (Wkrs) | Hildebran, NC | 11/04/2003 | 10/24/2003
53,424 | Clore Automotive (MN) | Eden Prairie, MN | 11/04/2003 | 10/30/2003
53,425 | Trane and American Standards Co's (MN) | White Bear Lake, MN | 11/04/2003 | 10/30/2003
53,426 | Neutronics, Inc. (Comp) | Phoenix, AZ | 11/04/2003 | 10/27/2003
53,427 | Puzzle-Craft (MN) | Wabasso, MN | 11/04/2003 | 10/28/2003
53,428 | Hawkeye Group (Wkrs) | Mediapolis, IA | 11/04/2003 | 10/23/2003
53,429 | R. Leon Williams Lumber Co. (ME) | Clifton, ME | 11/04/2003 | 10/23/2003
53,430 | EMF Corporation (Wkrs) | Burkesville, KY | 11/04/2003 | 10/21/2003
53,431 | Sweetwater Apparel, Inc. (Wkrs) | Collinwood, TN | 11/04/2003 | 10/31/2003
53,432 | Millennium A R Haire (Comp) | Thomasville NC | 11/04/2003 | 10/28/2003
53,433 | TT Electronics/IRC, Inc. (Comp) | Boone, NC | 11/04/2003 | 10/28/2003
53,434 | Sara Lee Coffee and Tea (OK) | Oklahoma City, OK | 11/04/2003 | 10/10/2003
53,435 | Manar, Inc. (Comp) | Henry, TN | 11/04/2003 | 10/24/2003
53,436 | Sanmina—SCI (ME) | Westbrook, ME | 11/04/2003 | 10/27/2003
53,437 | Sequel (Comp) | Willow Springs, MO | 11/04/2003 | 11/03/2003
53,438 | L. Handy Co., Inc. (Wkrs) | Worcester, MA | 11/04/2003 | 10/31/2003
53,439 | AM Communications, Inc. (Comp) | Quakertown, PA | 11/04/2003 | 10/31/2003
53,440 | Nestronix, Inc. (Comp) | Quakertown, PA | 11/04/2003 | 10/31/2003
53,441 | Coca Cola North America (NJ) | Hightstown, NJ | 11/04/2003 | 11/03/2003
53,442 | Planto Furniture Mfg. Co., Inc. (Comp) | San Antonio, TX | 11/05/2003 | 11/04/2003
53,443 | Deco Engineering, Inc. (Comp) | Royal Oak, MI | 11/05/2003 | 10/03/2003
53,444 | Emerson Process Management Power (Comp) | Pittsburgh, PA | 11/05/2003 | 11/05/2003
53,445 | Telewise Communications, Inc. (Wkrs) | San Jose, CA | 11/05/2003 | 11/04/2003
53,446 | Hexel (Comp) | Kent, WA | 11/05/2003 | 10/31/2003
53,447 | J.M. Smucker Co. (Wkrs) | Woodburn, OR | 11/05/2003 | 11/03/2003
53,448 | Texas Instruments (Wkrs) | Tucson, AZ | 11/05/2003 | 10/30/2003
53,449 | Chevron Phillips Chemical (PACE) | Port Arthur, TX | 11/05/2003 | 10/14/2003
53,450 | CHC Industries, Inc. (Comp) | Jacksonville FL | 11/05/2003 | 11/03/2003
53,451 | EDM Corporation (Comp) | Piqua, OH | 11/05/2003 | 01/04/2003
53,452 | Cadillac Curtain Corporation (Comp) | Covington, TN | 11/05/2003 | 10/27/2003
53,453 | Giddings Lewis (USWA) | Menominee, MI | 11/05/2003 | 10/17/2003
53,454 | Acusis (Wkrs) | Pittsburgh, PA | 11/05/2003 | 10/30/2003
53,455 | Cascade West Sportswear (WA) | Puyallup, WA | 11/05/2003 | 11/04/2003
53,456 | Asbury Fluxmaster of Utah, Inc. (Wkrs) | Ogden, UT | 11/05/2003 | 11/04/2003
53,457 | Thomson, Inc. (Comp) | Indianapolis, IN | 11/06/2003 | 10/21/2003
53,458 | 807 Cutting Services, Inc. (Wkrs) | El Paso, TX | 11/06/2003 | 10/28/2003
53,459 | Lindberg, Div. of SPX (Wkrs) | Watertown, WI | 11/06/2003 | 10/27/2003
53,460 | Shelby Elastics of NC, LLC (Comp) | Mountain City, TN | 11/06/2003 | 10/27/2003
53,461 | Symtech, Inc. (Wkrs) | Spartanburg, SC | 11/06/2003 | 10/15/2003
53,462 | Marshall Brass (Comp) | Marshall, MI | 11/06/2003 | 11/03/2003
53,463 | Wings West (Comp) | Santa Ana, CA | 11/06/2003 | 10/23/2003
53,464 | TECT—Utica (NY) | Whitesboro, NY | 11/06/2003 | 10/27/2003
53,465 | Tomco Products, Inc. (Comp) | Painesville, OH | 11/06/2003 | 10/27/2003
53,466 | Berkar Knittin Corp. (Comp) | Brooklyn, NY | 11/06/2003 | 10/22/2003
53,467 | Gasboy International, LLC (Comp) | Lansdale, PA | 11/07/2003 | 11/07/2003
53,468 | LF Brands, Inc. (Comp) | New York, NY | 11/07/2003 | 11/05/2003
53,469 | Wexco Corp. (Comp) | Lynchburg, VA | 11/07/2003 | 11/06/2003
53,470 | Motorola, Inc. (Wkrs) | Rockford, IL | 11/07/2003 | 11/04/2003
53,471 | GE Automation Services (Wkrs) | Greenville, SC | 11/07/2003 | 11/06/2003
53,472 | Sherman-Feinberg Corp. (Comp) | South Boston, MA | 11/07/2003 | 11/05/2003
53,473 | Farnsworth Fibre Corp. (Comp) | S. Boston, MA | 11/07/2003 | 11/05/2003
53,474 | ETCO, Inc. (Comp) | Warwick, RI | 11/07/2003 | 11/06/2003
53,475 | Glenoit Fabrics (Wkrs) | Tarboro, NC | 11/07/2003 | 10/31/2003
53,476 | Weidmann Systems International, Inc. (Wkrs) | St. Johnsbury, VT | 11/07/2003 | 10/27/2003
53,477 | XDU Classics, Inc. (Comp) | Piedmont, AL | 11/07/2003 | 10/29/2003
53,478 | Edgcomb Metals (USWA) | Indianapolis, IN | 11/07/2003 | 11/06/2003
53,479 | Fabricating Engineering, Inc. (UAW) | Davisburg, MI | 11/07/2003 | 11/05/2003
53,480 | Lindberg Corp. (Wkrs) | Racine, WI | 11/07/2003 | 10/31/2003
53,481 | Springs Industries (Comp) | Laurel Hill, NC | 11/07/2003 | 10/31/2003
53,482 | Siemens Energy and Automation, Inc. (Comp) | Tucker, GA | 11/07/2003 | 11/05/2003
53,483 | Active Wear, Inc. (Comp) | Martinsville, VA | 11/07/2003 | 11/04/2003
53,484 | Powerwave Technologies (CA) | El Dorado Hills, CA | 11/07/2003 | 10/30/2003
53,485 | Coutts Library Services (Wkrs) | Niagara Falls, NY | 11/07/2003 | 10/28/2003
53,486 | Stanley Services (Wkrs) | Henderson, NC | 11/07/2003 | 11/04/2003
53,487 | National Textiles (Comp) | Eden, NC | 11/07/2003 | 11/05/2003
53,488 | FNW—Familiar Northwest (Wkrs) | Portland, OR | 11/07/2003 | 10/27/2003
53,489 | Bell Sponging (UNITE) | Allentown, PA | 11/07/2003 | 10/28/2003
53,490 | Phillips Plastics Corp. (Wkrs) | Post Falls, ID | 11/07/2003 | 11/05/2003
53,491 | State Pattern Works (WI) | Greendale, WI | 11/07/2003 | 11/05/2003
53,492 | Falcon Shoe (ME) | Lewiston, ME | 11/07/2003 | 11/04/2003

[FR Doc. 03-29664 Filed 11-26-03; 8:45 am]

BILLING CODE 4510-30-M